ENVIRONMENTAL PROTECTION AGENCY

40 CFR Part 63

[EPA-HQ-OAR-2014-0471 [FRL-9922-13-OAR]

RIN 2060-AS26

Petition To Add n-Propyl Bromide to the List of Hazardous Air Pollutants

AGENCY: Environmental Protection Agency.

ACTION: Receipt of a complete petition.

SUMMARY: The U.S. Environmental Protection Agency (EPA) is announcing the receipt of a complete petition requesting that the EPA add the chemical n-Propyl Bromide (nPB) (Chemical Abstract Service No. 106-94-5) to the list of hazardous air pollutants (HAP) contained in section 112(b)(1) of the Clean Air Act (CAA). On October 28, 2010 and November 28, 2012, the Halogenated Solvent Industry Alliance (HSIA) submitted a petition to list nPB as a HAP and a supplement to the petition, respectively. In addition, on November 24, 2011, the New York State Department of Environmental Conservation (NYSDEC) submitted a petition to add nPB to the HAP list. We have determined that these petitions are complete for purposes of this process, which means they provide sufficient information to assess the human health impacts on people living in the vicinity of facilities emitting nPB. Today's document initiates our comprehensive technical review phase of the petition process. The EPA invites the public to comment on these petitions and to provide additional data, beyond what are in these petitions, on sources, emissions, exposure, health effects and environmental impacts associated with nPB that may be relevant to our technical review. These petitions and supporting information are available through Docket ID EPA-HQ-OAR-2014-0471. Following completion of the technical review phase that is initiated by today's notice and runs through the EPA's evaluation of all the comments received, the EPA will decide whether to grant or deny the petitions.

DATES: Comments. Comments must be received on or before March 9, 2015.

ADDRESSES: Submit your comments, identified by Docket ID No. EPA-HQ-OAR-2014-0471, by one of the following methods:

• Federal eRulemaking Portal: http://www.regulations.gov. Follow the online instructions for submitting comments.

• Email: a-and-r-docket@epa.gov, include Docket ID No. EPA-HQ-OAR-2014-0471 in the subject line of the message.

• Fax: (202) 566-9744, Attention Docket ID No. EPA-HQ-OAR-2014-0471.

• Mail: U.S. Environmental Protection Agency, EPA Docket Center (EPA/DC), Mail Code 28221T, Attention Docket ID No. EPA-HQ-OAR-2014-0471, 1200 Pennsylvania Avenue NW., Washington, DC 20460. Please include a total of two copies. In addition, please mail a copy of your comments on the information collection provisions to the Office of Information and Regulatory Affairs, Office of Management and Budget (OMB), Attn: Desk Officer for EPA, 725 17th Street NW., Washington, DC 20503.

• Hand/Courier Delivery: EPA Docket Center, Room 3334, EPA WJC West Building, 1301 Constitution Avenue NW., Washington, DC 20004, Attention Docket ID No. EPA-HQ-OAR-2014-0471. Such deliveries are only accepted during the Docket's normal hours of operation, and special arrangements should be made for deliveries of boxed information.

Instructions: All submissions must include agency name and docket number or Regulatory Information Number (RIN) for this rulemaking. Direct your comments to Docket ID No. EPA-HQ-OAR-2014-0471. The EPA's policy is that all comments received will be included in the public docket and may be made available online at: http://www.regulations.gov, including any personal information provided, unless the comment includes information claimed to be confidential business information (CBI), or other information whose disclosure is restricted by statute. Do not submit information that you consider to be CBI, or otherwise protected through http://www.regulations.gov or email. The http://www.regulations.gov Web site is an “anonymous access” system, which means the EPA will not know your identity or contact information unless you provide it in the body of your comment. If you send an email comment directly to the EPA without going through http://www.regulations.gov, your email address will be automatically captured and included as part of the comment that is placed in the public docket and made available on the Internet. If you submit an electronic comment, the EPA recommends that you include your name and other contact information in the body of your comment, and with any disk or CD-ROM you submit. If the EPA cannot read your comment due to technical difficulties, and cannot contact you for clarification, the EPA may not be able to consider your comment. Electronic files should avoid the use of special characters, any form of encryption, and be free of any defects or viruses. For additional information about the EPA's public docket, visit the EPA Docket Center homepage at http://www.regulations.gov.

Docket: The EPA has established a docket for this action under Docket ID No. EPA-HQ-OAR-2014-0471. All documents in the docket are listed in the http://www.regulations.gov index. Although listed in the index, some information is not publicly available, e.g., CBI or other information whose disclosure is restricted by statute. Certain other material, such as copyrighted material, will be publicly available only in hard copy form. Publicly available docket materials are available either electronically at: http://www.regulations.gov, or in hard copy at the EPA Docket Center, EPA WJC West Building, Room 3334, 1301 Constitution Ave. NW., Washington, DC. The Public Reading Room is open from 8:30 a.m. to 4:30 p.m., Monday through Friday, excluding legal holidays. The telephone number for the Public Reading Room is (202) 566-1744, and the telephone number for the EPA Docket Center is (202) 566-1742.

FOR FURTHER INFORMATION CONTACT: Mr. John Schaefer, U.S. EPA, Office of Air Quality Planning and Standards, Sector Policies and Programs Division, Policies and Strategies Group (D205-02), Research Triangle Park, North Carolina 27711; telephone number: (919) 541-0296; fax number: (919) 541-5600; email address: schaefer.john@epa.gov.

SUPPLEMENTARY INFORMATION:

Organization of This Document. The following outline is provided to aid in locating information in this preamble.

I. General Information

A. What should I consider as I prepare my comments for EPA?

B. Where can I get a copy of this document?

II. Background Information for Petitions Received by the EPA

A. What is the list of hazardous air pollutants?

B. What is a listing petition?

C. How does the EPA review a petition to list a HAP?

D. How is the decision to list a HAP made?

III. Completeness Determination and Request for Public Comment

IV. Description of the Petitions

I. General Information

A. What should I consider as I prepare my comments for EPA?

Submitting CBI. Do not submit information that you consider to be CBI electronically through http://www.regulations.gov or email. Send or deliver information identified as CBI to only the following address: OAQPS Document Control Officer (Room C404-02), U.S. Environmental Protection Agency, Research Triangle Park, North Carolina 27711, Attn: Docket ID No. EPA-HQ-OAR-2014-0471.

Clearly mark the part or all of the information that you claim to be CBI. For CBI information in a disk or CD-ROM that you mail to the EPA, mark the outside of the disk or CD-ROM as CBI and then identify electronically within the disk or CD-ROM the specific information that is claimed as CBI. In addition to one complete version of the comment that includes information claimed as CBI, a copy of the comment that does not contain the information claimed as CBI must be submitted for inclusion in the public docket. If you submit a CD-ROM or disk that does not contain CBI, mark the outside of the disk or CD-ROM clearly that it does not contain CBI. Information marked as CBI will not be disclosed except in accordance with procedures set forth in 40 CFR part 2.

If you have any questions about CBI or the procedures for claiming CBI, please consult the person identified in the FOR FURTHER INFORMATION CONTACT section.

B. Where can I get a copy of this document?

In addition to being available in the docket, electronic copies of this notice will be available on the World Wide Web through the Technology Transfer Network (TTN). Following signature, a copy of this proposed rule will be posted on the TTN's Air Toxics Web site at the following address: http://www.epa.gov/ttn/atw/pollutants/atwsmod.html.

II. Background Information for Petitions Received by the EPA

A. What is the list of hazardous air pollutants?

The HAPs, which can be found in CAA section 112(b)(1), is a list of a wide variety of organic and inorganic substances released from large and small industrial operations, fossil fuel combustion, gasoline and diesel-powered vehicles, and many other sources. These HAPs have been associated with a wide variety of adverse health effects, including cancer, neurological effects, reproductive effects and developmental effects. The health effects associated with various HAPs may differ depending upon the toxicity of the individual HAP and the particular circumstances of exposure, such as the amount of chemical present, the length of time a person is exposed, and the stage in life of the person when the exposure occurs.

B. What is a listing petition?

CAA section 112(b)(3)(A) specifies that any person may petition the Administrator to modify, by addition or deletion, the list of HAPs contained in CAA section 112(b)(1). The EPA Administrator is required under CAA section 112(b)(3)(A) to either grant or deny a petition to list a specific HAP within 18 months of the receipt of a petition to add a substance to the HAP list. CAA section 112(b)(3)(B) says the, “Administrator shall add a substance to the list upon a showing by the petitioner or on the Administrator's own determination that the substance is an air pollutant and that emissions, ambient concentrations, bioaccumulation or deposition of the substance are known to cause or may reasonably be anticipated to cause adverse effects to human health or adverse environmental effects.” The addition of a HAP to the list in CAA section 112(b)(1) brings sources emitting HAP into consideration in the EPA's program to promulgate national technology-based emissions control standards. This technology-based standards program is commonly referred to as the maximum achievable control technology (MACT) program.

C. How does the EPA review a petition to list a HAP?

The petition review process consists of two phases: A completeness determination and a technical review. During the completeness determination, the EPA conducts a broad review of the petition to determine whether all of the necessary subject areas are addressed. In addition, the EPA determines if adequate data, analyses, and evaluation are included for each subject area. Once the petition is determined to be complete, the EPA places a notice of receipt of a complete petition in the Federal Register. That notice announces a public comment period on the petition and starts the technical review phase of our decision-making process. The technical review determines whether the petition has satisfied the necessary requirements and can support a decision to list the HAP. All comments and data submitted during the public comment period are considered during the technical review.

D. How is the decision to list a HAP made?

The decision to either grant or deny a petition is made after a comprehensive technical review of both the petition and the information received from the public to determine whether the petition satisfies the requirements of CAA section 112(b)(3)(B). If the Administrator decides to grant a petition, a proposal will be published in the Federal Register announcing that decision and the opportunity for public comment. That notice would propose a modification of the HAP list and present the reasoning for doing so. However, if the Administrator decides to deny a petition, a notice setting forth an explanation of the reasons for denial will be published in the Federal Register instead. A notice of denial constitutes final agency action of nationwide scope and applicability and is subject to judicial review as provided in CAA section 307(b).

III. Completeness Determination and Request for Public Comment

The EPA Administrator is required under CAA section 112(b)(3)(A) to either grant or deny a petition to list a specific HAP within 18 months of the receipt of a petition. On October 28, 2010, we received a petition from the HSIA to add nPB to the HAP list. Because of incomplete emissions estimates, modeling procedures and a lack of sufficient citations supporting adverse human health effects, the EPA determined that the petition was incomplete and requested that the petitioner provide additional information. On November 30, 2012, the petitioner submitted supplemental information and data addressing the EPA's concerns regarding the completeness of the petition. Additionally, on November 24, 2011, the NYSDEC submitted a petition to add nPB to the HAP list.

After reviewing these petitions and supplemental information, we have determined that all of the necessary subject areas for a human health and environmental risk assessment have been addressed and, therefore, the petitions are ready for technical review. Today's notice initiates our comprehensive technical review of the petition and invites public comment on the substance of the petitions as described above.

IV. Description of the Petitions

These petitions contain the following information:

• Background data on nPB including chemical properties, physical properties, production data, and use data;

• Toxicological data describing the human health and environmental effects of nPB;

• Atmospheric dispersion modeling that provides estimates of nPB concentrations adjacent to facilities that emit it; and

• Characterization of risks to human health due to emissions of nPB.

Based on the chemical and physical properties of nPB, petitioners claim that nPB is carcinogenic, has toxic reproductive effects, and is a neurotoxin. HSIA's petition estimated cancer incidence by estimating emissions from five facilities that use nPB. HSIA also used the site-specific data as input for air dispersion modeling to develop anticipated lifetime cancer risk that would occur beyond facility boundaries. Neither HSIA nor NYSDEC provided estimates of anticipated chronic or acute adverse health impacts in people living near nPB-emitting facilities, although such effects were identified in the scientific literature referenced by both petitioners.

We invite the public to comment on the technical merits of these petitions and to submit any information that may impact the EPA's ultimate decision to grant or deny these requests to list nPB as a HAP.

Dated: January 21, 2015.
Janet G. McCabe,
Acting Assistant Administrator for Air and Radiation.

[FR Doc. 2015-01705 Filed 2-5-15; 8:45 am]

BILLING CODE 6560-50-P